DEPARTMENT OF ENERGY

Federal Energy Regulatory Commission

[Project Nos. 2593-031; 2823-020]

Algonquin Power (Beaver Falls), LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Major License.

b. Project Nos.: 2593-031 and 2823-020.

c. Date filed: December 30, 2015, supplemented by a settlement agreement filed August 24, 2017.

d. Applicant: Algonquin Power (Beaver Falls), LLC.

e. Name of Project: Upper Beaver Falls and Lower Beaver Falls Hydroelectric Projects.

f. Location: On the Beaver River, in the towns of Croghan and New Bremen, Lewis County, New York. The projects do not occupy lands of the United States.

g. Filed Pursuant to: Federal Power Act, 16 U.S.C. 791 (a)-825(r).

h. Applicant Contact: Robert Gates, Executive Vice President, Eagle Creek Renewables Energy, LLC, 116 N. State Street P.O. Box 167, Neshkoro, WI 54960-0167; (973) 998-8400; bob.gates@eaglecreekre.com.

i. FERC Contact: Andy Bernick, (202) 502-8660 or andrew.bernick@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket numbers P-2593-031 and P-2823-020.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing project works are as follows:

The Upper Beaver Falls Project consists of: (1) A 328-foot-long, 25-foot-high concrete gravity dam with an uncontrolled overflow spillway; (2) a 48-acre reservoir with a storage capacity of 800 acre-feet at elevation 799.4 feet North American Vertical Datum of 1988 (NAVD 88); (3) a 17-foot-high, 26.5-foot-wide, 27.5-foot-long intake structure with a steel trash rack ; (4) a 90-foot-long, 16-foot-wide, 8-foot-high concrete penstock; (5) a powerhouse containing one turbine-generator with a nameplate rating of 1,500 kilowatts (kW); (6) a tailrace excavated in the riverbed; (7) a 2,120-foot-long, 2.4-kilovolt (kV) overhead transmission line connecting to an existing National Grid substation; and (8) other appurtenances. The project generates about 8,685 megawatt-hours (MWh) annually.

The Lower Beaver Falls Project consists of: (1) A 400-foot-long concrete gravity dam with a maximum height of 14 feet, including: (i) a 240-foot-long non-overflow section containing an 8-foot-wide spillway topped with flashboards ranging from 6 to 8 inches in height and (ii) a 160-foot-long overflow section with an ice sluice opening; (2) a 4-acre reservoir with a storage capacity of 27.9 acre-feet at a normal elevation of 769.6 feet NAVD 88; (3) an intake structure with a steel trash rack, integral with a powerhouse containing two 500-kW turbine and generator units; (4) a tailrace; (5) a 250-foot-long, 2.4-kV transmission line connected to the Upper Beaver Falls powerhouse; and (6) appurtenant facilities. The project generates about 5,617 MWh annually.

The Lower Beaver Falls Project is located approximately 600 feet downstream of the Upper Beaver Falls Project. The dams and existing project facilities for both projects are owned by the applicant. As described in its August 24, 2017, settlement agreement with the U.S. Fish and Wildlife Service (FWS) and New York State Department of Environmental Conservation (New York DEC), the applicant proposes the following changes to project facilities and operation: (1) both projects would be consolidated under a single license; (2) the consolidated project would operate in strict run-of-river mode; (3) a year-round minimum flow of 30 cubic feet per second (cfs) would be maintained in the Upper Project bypassed reach and at the Lower Project; (4) trash racks would be replaced at the Upper Project to provide 1-inch clear spacing, and a seasonal overlay system would be placed at the Lower Project; and (5) recreational enhancements, including a boat launch, fishing access, canoe take-out, and parking area, would be provided at a location determined through consultation with FWS and New York DEC.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

n. Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified deadline date for the particular application.

All filings must (1) bear in all capital letters the title PROTEST, MOTION TO INTERVENE, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

p. Procedural Schedule:

The application will be processed according to the following revised Hydro Licensing Schedule. Revisions to the schedule may be made as appropriate.

Milestone | Target date
Filing of comments, recommendations, terms and conditions, and prescriptions | April 2018.
Reply comments due | May 2018.
Commission issues EA | October 2018.
Comments on EA due | November 2018.

Dated: February 8, 2018.
Kimberly D. Bose,
Secretary.

[FR Doc. 2018-03007 Filed 2-13-18; 8:45 am]

BILLING CODE 6717-01-P